DEPARTMENT OF ENERGY

Federal Energy Regulatory Commission

[Docket No. PF04-10-000]

Northwest Pipeline Corporation; Notice of Intent To Prepare an Environmental Impact Statement for the Proposed Capacity Replacement Project, Request for Comments on Environmental Issues, and Notice of Public Scoping Meetings

July 19, 2004.

The staff of the Federal Energy Regulatory Commission (Commission) will prepare an environmental impact statement (EIS) that will discuss the environmental impacts of Northwest Pipeline Corporation's (Northwest), a Williams Gas Pipeline company, proposed Capacity Replacement Project. This notice explains the scoping process that will be used to gather input from the public and interested agencies on the project. Your input will help us determine which issues need to be evaluated in the EIS. Please note that the scoping period for the project will close on August 18, 2004.

Comments may be submitted electronically, in written form, or verbally. In lieu of sending comments, we invite you to attend the public scoping meetings that have been scheduled in the project area. These meetings are scheduled for August 2, 2004, in Arlington, Washington; August 3, 2004, in Redmond, Washington; and August 4, 2004, in Yelm, Washington. Further instructions on how to submit comments and additional details of the public scoping meetings are provided in the public participation section of this notice.

The FERC will be the lead Federal agency for the preparation of the EIS. The document will satisfy the requirements of the National Environmental Policy Act (NEPA). The Washington Department of Ecology (Ecology) will be the lead State agency with responsibility for complying with the State Environmental Policy Act (SEPA) and has agreed to participate as a cooperating agency in the preparation of the EIS. This notice serves as Ecology's Determination of Significance and Request for Comments on the Scope of the EIS. The U.S. Army Corps of Engineers (COE) has also agreed to participate as a cooperating agency in the preparation of the EIS to satisfy its NEPA responsibilities under section 404 of the Clean Water Act and section 10 of the Rivers and Harbors Act. It is the goal of the FERC, Ecology, and the COE to avoid duplication of effort and prepare a single EIS that can be used to satisfy their respective NEPA and SEPA responsibilities.

With this notice, we ¹ are asking other Federal, State, local, and tribal agencies with jurisdiction and/or special expertise with respect to environmental issues to cooperate with us in the preparation of the EIS. These agencies may choose to participate once they have evaluated Northwest's proposal relative to their responsibilities. Agencies that would like to request cooperating status should follow the instructions for filing comments described later in this notice.

¹ ”We,” “us,” and “our” refer to the environmental staff of the Office of Energy Projects.

This notice is being sent to affected landowners; Federal, State, and local government agencies; elected officials; environmental and public interest groups; Native American tribes; other interested parties; and local libraries and newspapers. We encourage government representatives to notify their constituents of this planned project and encourage them to comment on their areas of concern.

If you are a landowner receiving this notice, you may be contacted by a Northwest representative about the acquisition of an easement to construct, operate, and maintain the proposed facilities. The pipeline company would seek to negotiate a mutually acceptable agreement. However, if the project is approved by the FERC, that approval conveys with it the right of eminent domain. Therefore, if easement negotiations fail to produce an agreement, the pipeline company could initiate condemnation proceedings in accordance with Washington state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Northwest proposes to construct approximately 81 miles of new 36-inch-diameter pipeline in four loops ² located in Whatcom, Skagit, Snohomish, King, Pierce, and Thurston Counties, Washington. The new loops would be adjacent to Northwest's existing 26-inch- and 30-inch-diameter mainlines and primarily within Northwest's existing right-of-way. Mainline block valves and pig ³ launcher/receiver facilities would be installed along the loops. The Capacity Replacement Project would also involve the total net addition of 17,120 horsepower at five existing compressor stations (one each in Whatcom, Skagit, Snohomish, Lewis, and Clark Counties, Washington). A general overview of the major project facilities is shown on figure 1 in appendix 1.⁴

² A loop is a segment of pipeline that is usually installed adjacent to an existing pipeline and connected to it at both ends. The loop allows more gas to be moved through the system.

³ A pig is an internal tool that can be used to clean and dry a pipeline and/or to inspect it for damage or corrosion.

⁴ The appendices referenced in this notice are not being printed in the Federal Register. Copies are available on the Commission's Internet Web site (http://www.ferc.gov) at the “eLibrary” link or from the Commission's Public Reference Room at (202) 502-8371. For instructions on connecting to eLibrary, refer to the end of this notice. Copies of the appendices were sent to all those receiving this notice in the mail. Requests for detailed maps of the proposed facilities should be made directly to Northwest via e-mail at nwpcapacityreplacement@williams.com or by calling 1-866-623-4336.

The purpose of the project is to replace the delivery capacity of Northwest's existing 26-inch-diameter mainline within a 3-year timeframe established by the U.S. Department of Transportation under a Corrective Action Order. Once the new loops are installed, Northwest would disconnect the entire 26-inch-diameter pipeline and abandon ⁵ the system in place.

⁵ In utility law, the term abandonment refers to government authorization for a utility to cease provision of a particular service and/or to shut down a particular facility.

The Capacity Replacement Project is scheduled to be in service by November 1, 2006. Northwest is requesting approval to begin compressor station work in March 2006 and pipeline construction in May 2006. The compressor station modifications would take a maximum of 7 months; pipeline construction is estimated to take approximately 5 months.

Land Requirements for Construction

Construction of Northwest's proposed pipeline facilities would require about 929.6 acres of land, of which 733.9 acres would be within Northwest's existing maintained right-of-way and 195.7 acres would be new temporary disturbance. The typical construction right-of-way for the pipeline would be 95 feet wide, consisting of Northwest's existing 75-foot-wide maintained right-of-way and 20 feet of new temporary workspace. Additional right-of-way width and temporary extra workspace would be required at certain feature crossings and areas requiring topsoil segregation and special construction techniques.

The pipeline loops would be generally installed within Northwest's existing 75-foot-wide right-of-way using a standard 20-foot offset from the existing 30-inch-diameter mainline. At certain locations (e.g., utility and road crossings), variations from this standard offset would be needed. Most variations would still be located within the existing right-of-way but offset at slightly wider or narrower intervals. In some areas, the proposed pipeline would deviate from the existing right-of-way due to topographic or resource/land use constraints. In certain areas where encroachment, development, or other limitations confine available workspace to the existing right-of-way, Northwest would remove the existing 26-inch-diameter mainline and install the new 36-inch-diameter pipeline loop in the same ditch.

Northwest currently retains a 75-foot-wide permanent right-of-way for the majority of its existing pipelines. Because the majority of the new pipeline loops would be installed within the existing 75-foot-wide right-of-way, no additional permanent right-of-way would be required. However, in some locations, Northwest retains only a 60-foot-wide permanent right-of-way. In these areas, Northwest may request additional operational right-of-way to bring the easement up to 75 feet if space is available and the landowner is willing to expand the easement. If the proposed pipeline loop would deviate from the existing right-of-way, Northwest would typically retain a 75-foot-wide new permanent right-of-way (37.5 feet on either side of the pipeline).

The modifications to the existing compressor stations would be constructed within the existing facility sites, except for a 1.6-acre extra workspace that would be temporarily needed at the Sumas Compressor Station and a 1.0-acre extra workspace that would be temporarily needed at the Chehalis Compressor Station.

Mainline block valves would be installed within the permanent right-of-way at the beginning and end points of each loop and at intermediate locations as necessary. The majority of the proposed mainline valves would be collocated with existing mainline valves and other aboveground facilities. Pig launchers and receivers would be installed within the permanent right-of-way at the beginning and end points of each loop. The majority of the proposed pig launchers and receivers would be collocated with existing aboveground facilities.

The EIS Process

NEPA requires the FERC to take into account the environmental impacts that could result from an action whenever it considers the issuance of a Certificate of Public Convenience and Necessity. Ecology, as the lead State agency, is required to consider the same potential impacts under SEPA. The EIS we are preparing will give both the FERC and Ecology the information needed to do that.

Although no formal application has been filed, we have already initiated our NEPA review under the FERC's NEPA Pre-Filing Process. The purpose of the Pre-Filing Process is to encourage the early involvement of interested stakeholders and to identify and resolve issues before an application is filed with the FERC. Ecology has agreed to conduct its SEPA review in conjunction with the NEPA Pre-Filing Process. A diagram depicting the environmental review process for the project is attached to this notice as appendix 2.

As part of our NEPA Pre-Filing Process review, representatives from the FERC participated in public open houses sponsored by Northwest in the project area on June 28-30 and July 12-15, 2004, to explain the environmental review process to interested stakeholders and take comments about the project. On July 1, 2004, the FERC staff conducted an interagency scoping meeting in the project area to solicit comments and concerns about the project from jurisdictional agencies. Agencies present at the meeting included the COE, NOAA Fisheries, Fort Lewis Army Base, Ecology, the Washington Department of Fish and Wildlife, the Washington Department of Natural Resources, and the Washington Utilities and Transportation Commission. The Lummi Nation was also represented.

By this notice, we are formally announcing our preparation of the EIS and requesting additional agency and public comments to help us focus the analysis in the EIS on the potentially significant environmental issues related to the proposed action. If you provided comments at the interagency scoping meeting discussed above, you do not need to resubmit the same comments.

Our independent analysis of the issues will be included in a draft EIS. The draft EIS will be mailed to Federal, State, and local government agencies; elected officials; environmental and public interest groups; Native American tribes; affected landowners; other interested parties; local libraries and newspapers; and the FERC's official service list for this proceeding. A 45-day comment period will be allotted for review of the draft EIS. We will consider all timely comments on the draft EIS and revise the document, as necessary, before issuing a final EIS.

Currently Identified Environmental Issues

The EIS will discuss impacts that could occur as a result of the construction and operation of the proposed project. We have already identified a number of issues and alternatives that we think deserve attention based on a preliminary review of the proposed facilities, the environmental information provided by Northwest, and the scoping comments received to date. This preliminary list of issues and alternatives may be changed based on your comments and our additional analysis.

• Geology and Soils:

—Assessment of potential geological hazards.

—Erosion and sedimentation control.

—Right-of-way restoration.

• Water Resources:

—Impact on groundwater and surface water supplies.

—Impact on wetland hydrology and assessment of wetland mitigation options.

—Effect of pipeline crossings on perennial and intermittent waterbodies.

—Assessment of special measures for the crossing of Saar Creek, North Fork Nooksack River, Pilchuck Creek, North Fork Stillaguamish River, South Fork Stillaguamish River, and the Nisqually River.

—Assessment of contingency plans for frac-outs associated with horizontal directional drills.

—Assessment of alternative waterbody crossing methods.

—Effect of streambottom scour on the new and existing pipelines.

—Assessment of hydrostatic test water sources and discharge locations.

• Fish, Wildlife, and Vegetation:

—Effect on coldwater and sensitive fisheries.

—Effect on wildlife resources and their habitat.

—Effect on migratory birds.

—Assessment of construction time window restrictions.

—Effect on riparian vegetation.

—Assessment of measures to successfully revegetate the right-of-way.

• Special Status Species:

—Potential effect on federally listed or proposed species (including the northern spotted owl).

—Assessment of mitigation for impacts on the northern spotted owl and its designated critical habitat.

—Potential effect on State-listed sensitive species.

• Cultural Resources:

—Assessment of survey methodologies.

—Effect on historic and prehistoric sites.

—Native American and tribal concerns, including impacts on traditional cultural properties and fishing rights.

• Land Use, Recreation and Special Interest Areas, and Visual Resources:

—Impacts on 16.4 miles of agricultural land.

—Impacts on approximately 182 residences within 50 feet of the construction work area.

—Impacts on Fort Lewis.

—Evaluation of the project's consistency with regional and local land use management plans, policies, and ordinances, including the Shoreline Management Act and Shoreline Master Programs.

—Impacts associated with contaminated sites.

—Visual impacts.

• Socioeconomics:

—Effects on transportation and traffic.

—Effects of construction workforce demands on public services and temporary housing.

• Air Quality and Noise:

—Effects on local air quality and noise environment from construction and operation of the proposed facilities.

• Reliability and Safety:

—Assessment of hazards associated with natural gas pipelines.

• Alternatives:

—Assessment of the potential to add compression to eliminate or minimize pipeline construction.

—Assessment of the potential to change the locations of the pipeline loops to lessen or avoid impacts on residences and various resource and special interest areas.

—Identification of route variations and/or non-standard parallel offsets to lessen or avoid impacts.

—Assessment of returning the existing 26-inch-diameter pipeline to permanent service to eliminate or minimize new pipeline construction.

—Evaluation of removing the 26-inch-diameter pipeline and installing the 36-inch-diameter pipeline loops in the same ditch for the entire project.

• Cumulative Impact:

—Assessment of the effect of the proposed project when combined with other past, present, or future actions in the same region.

Public Participation

You can make a difference by providing us with your specific comments or concerns about Northwest's proposal. Your comments should focus on the potential environmental effects, reasonable alternatives, and measures to avoid or lessen environmental impact. The more specific your comments, the more useful they will be. To expedite our receipt and consideration of your comments, the Commission strongly encourages electronic submission of any comments on this project. See title 18 Code of Federal Regulations 385.2001(a)(1)(iii) and the instructions on the Commission's Internet Web site at http://www.ferc.gov under the “eFiling” link and the link to the User's Guide. Before you can submit comments you will need to create a free account by clicking on “Sign-up” under “New User.” You will be asked to select the type of submission you are making. This type of submission is considered a “Comment on Filing.” Your comments must be submitted electronically by August 18, 2004.

If you wish to mail comments, please mail your comments so that they will be received in Washington, DC on or before August 18, 2004, and carefully follow these instructions:

Send an original and two copies of your letter to:

• Magalie R. Salas, Secretary, Federal Energy Regulatory Commission, 888 First Street, NE., Room 1A, Washington, DC 20426;

• Label one copy of your comments for the attention of the Gas Branch 2, DG2E; and

• Reference Docket No. PF04-10-000 on the original and both copies.

The public scoping meetings, which will be joint NEPA/SEPA scoping meetings, are designed to provide another opportunity to offer comments on the proposed project. Interested groups and individuals are encouraged to attend the meetings and to present comments on the environmental issues they believe should be addressed in the EIS. A transcript of the meetings will be generated so that your comments will be accurately recorded. All meetings will begin at 7 p.m. (p.s.t.), and are scheduled as follows:

Date | Location
Monday, August 2, 2004 | Hawthorn Inn & Suites, 16710 Smokey Point Blvd., Arlington, WA 98223; (360) 657-0500.
Tuesday, August 3, 2004 | Marriott Redmond Town Center, 7401 164th Avenue, NE., Redmond, WA 98052; (425) 498-4120.
Wednesday, August 4, 2004 | Prairie Hotel, 700 Prairie Park Lane, Yelm, WA 98597; (360) 458-8300.

Everyone who responds to this notice or provides comments throughout the EIS process will be retained on our mailing list. If you do not want to send comments at this time but still want to stay informed and receive copies of the draft and final EISs, you must return the Mailing List Retention Form (appendix 3). If you do not send comments or return the Mailing List Retention Form asking to remain on the mailing list, you will be taken off the mailing list.

Once Northwest formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission.

Affected landowners and parties with environmental concerns may be granted intervenor status upon showing good cause by stating that they have a clear and direct interest in this proceeding that would not be adequately represented by any other parties. You do not need intervenor status to have your environmental comments considered.

Availability of Additional Information

Additional information about the project is available from the Commission's Office of External Affairs at 1-866-208 FERC or on the FERC Internet Web site (http://www.ferc.gov) using the “eLibrary” link. Click on the eLibrary link, click on “General Search,” and enter the docket number excluding the last three digits in the Docket Number field (i.e., PFO4-10). Be sure you have selected an appropriate date range. For assistance, please contact FERC Online Support at http://www.FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Northwest has established an Internet Web site for its project at http://www.williams.com/williamsinwashington/. The Web site includes a description of the project and an overview map of the proposed loops. Northwest will continue to update its Web site with information about the project.

Magalie R. Salas,
Secretary.

[FR Doc. E4-1649 Filed 7-23-04; 8:45 am]

BILLING CODE 6717-01-P